DEPARTMENT OF COMMERCE

National Oceanic and Atmospheric Administration

RIN: 0648-XD17

New England Fishery Management Council; Public Meeting

AGENCY: National Marine Fisheries Service (NMFS), National Oceanic and Atmospheric Administration (NOAA), Commerce.

ACTION: Notice of public meetings.

SUMMARY: The New England Fishery Management Council (Council) is scheduling public meetings of its Monkfish Advisory Panel and its Oversight Committee, in October, 2007, to consider actions affecting New England fisheries in the exclusive economic zone (EEZ). Recommendations from these groups will be brought to the full Council for formal consideration and action, if appropriate.

DATES: These meetings will be held on Tuesday, October 23, at 9 a.m. and on Wednesday, October 24, at 9:30 a.m.

ADDRESSES: These meetings will be held at the Holiday Inn, One Newbury Street, Peabody, MA 01960; telephone: (978) 535-4600; fax: (978) 535-8238.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

1. Tuesday, October 23, 2007; Monkfish Advisory Panel meeting.

The Advisory Panel will review the analysis of alternatives under consideration in Framework 5 to the Monkfish FMP and make recommendations on preferred alternatives to the Monkfish Committee and New England and Mid-Atlantic Councils. Framework 5 alternatives will address changes to the biological reference points (as recommended by the recent stock assessment workshop), days-at-sea (DAS) carryover limits, monkfish landings under the 3-hour gillnet rule, Mid-Atlantic/Southern New England area large-mesh monkfish incidental catch limits, and the requirement to obtain a monkfish Letter of Authorization to fish in the northern management area.

2. Wednesday, October 24, 2007; Monkfish Oversight Committee meeting.

The Committee will review the analysis of alternatives under consideration in Framework 5 to the Monkfish FMP and consider the recommendations of the Monkfish Advisory Panel as well as public comment, and make recommendations on preferred alternatives to the New England and Mid-Atlantic Councils. Framework 5 alternatives will address changes to the biological reference points (as recommended by the recent stock assessment workshop), DAS carryover limits, monkfish landings under the 3-hour gillnet rule, Mid-Atlantic/Southern New England area large-mesh monkfish incidental catch limits, and the requirement to obtain a monkfish Letter of Authorization to fish in the northern management area.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard, Executive Director, at (978) 465-0492, at least 5 days prior to the meeting date.

Authority: 16 U.S.C. 1801 et seq.

Dated: October 3, 2007.
Tracey L. Thompson,
Acting Director, Office of Sustainable Fisheries, National Marine Fisheries Service.

[FR Doc. E7-19809 Filed 10-5-07; 8:45 am]

BILLING CODE 3510-22-S